DEPARTMENT OF ENERGY

Federal Energy Regulatory Commission

Combined Notice of Filings #1

Take notice that the Commission received the following electric rate filings:

Docket Numbers: ER11-2558-004; ER11-2557-004; ER11-2555-003; ER11-2556-004; ER11-2552-004; ER11-2554-004.

Applicants: Niagara Mohawk Power Corporation, New England Power Company, National Grid-Glenwood Energy Center, LLC, National Grid-Port Jefferson Energy Center, LLC, Massachusetts Electric Company, The Narragansett Electric Company.

Description: Updated Triennial Market Power Analysis of the National Grid USA Subsidiaries.

Filed Date: 12/19/19.

Accession Number: 20191219-5135.

Comments Due: 5 p.m. ET 2/18/20.

Docket Numbers: ER19-2476-002; ER19-119-002; ER19-8-002; ER17-318-002; ER16-2520-002.

Applicants: Techren Solar I LLC, Techren Solar II LLC, Sweetwater Solar, LLC, Three Peaks Power, LLC, Grand View PV Solar Two LLC.

Description: Triennial Compliance Filing for the Northwest Region of Techren Solar II LLC, et al.

Filed Date: 12/19/19.

Accession Number: 20191219-5136.

Comments Due: 5 p.m. ET 2/18/20.

Docket Numbers: ER20-629-000.

Applicants: NYC ENERGY LLC.

Description: Petition for Limited Waiver, et al. of NYC Energy LLC.

Filed Date: 12/18/19.

Accession Number: 20191218-5116.

Comments Due: 5 p.m. ET 1/8/20.

Docket Numbers: ER20-634-000.

Applicants: Arizona Public Service Company.

Description: Compliance filing: Settlement Offer Addressing Docket Nos. ER16-1342 and ER18-246 to be effective N/A.

Filed Date: 12/18/19.

Accession Number: 20191218-5178.

Comments Due: 5 p.m. ET 1/8/20.

Docket Numbers: ER20-635-000.

Applicants: Rodan Energy Solutions (USA) Inc.

Description: Baseline eTariff Filing: RODAN ENERGY SOLUTIONS (USA) INC INITIAL MBR Tariff to be effective 4/1/2020.

Filed Date: 12/19/19.

Accession Number: 20191219-5046.

Comments Due: 5 p.m. ET 1/9/20.

Docket Numbers: ER20-636-000.

Applicants: PJM Interconnection, L.L.C.

Description: § 205(d) Rate Filing: Original ISA SA No. 5535; Queue No. AB2-179 to be effective 11/19/2019.

Filed Date: 12/19/19.

Accession Number: 20191219-5076.

Comments Due: 5 p.m. ET 1/9/20.

Docket Numbers: ER20-637-000.

Applicants: Wilton Wind Energy I, LLC.

Description: Baseline eTariff Filing: Wilton Wind Energy I, LLC Application for MBR Authority to be effective 2/18/2020.

Filed Date: 12/19/19.

Accession Number: 20191219-5079.

Comments Due: 5 p.m. ET 1/9/20.

Docket Numbers: ER20-638-000.

Applicants: New York Independent System Operator, Inc.

Description: § 205(d) Rate Filing: 205: Class Year Redesign to be effective 2/18/2020.

Filed Date: 12/19/19.

Accession Number: 20191219-5083.

Comments Due: 5 p.m. ET 1/9/20.

Docket Numbers: ER20-639-000.

Applicants: Public Service Company of Colorado.

Description: § 205(d) Rate Filing: PSC-HLYCRS-Tran Plnnr & Plnng Coord-466-0.0.0 to be effective 12/20/2019.

Filed Date: 12/19/19.

Accession Number: 20191219-5096.

Comments Due: 5 p.m. ET 1/9/20.

Docket Numbers: ER20-640-000.

Applicants: Duke Energy Carolinas, LLC.

Description: § 205(d) Rate Filing: DEC-CEPCI NITSA (SA No. 447) Amendment to be effective 1/1/2020.

Filed Date: 12/19/19.

Accession Number: 20191219-5150.

Comments Due: 5 p.m. ET 1/9/20.

Docket Numbers: ER20-641-000.

Applicants: ReEnergy Black River LLC.

Description: § 205(d) Rate Filing: Market-Based Rate Tariff Revisions to be effective 12/20/2019.

Filed Date: 12/19/19.

Accession Number: 20191219-5168.

Comments Due: 5 p.m. ET 1/9/20.

Docket Numbers: ER20-642-000.

Applicants: ReEnergy Livermore Falls LLC.

Description: § 205(d) Rate Filing: Market-Based Rate Tariff Revisions to be effective 12/20/2019.

Filed Date: 12/19/19.

Accession Number: 20191219-5169.

Comments Due: 5 p.m. ET 1/9/20.

Docket Numbers: ER20-643-000.

Applicants: ReEnergy Stratton LLC.

Description: § 205(d) Rate Filing: Market-Based Rate Tariff Revisions to be effective 12/20/2019.

Filed Date: 12/19/19.

Accession Number: 20191219-5171.

Comments Due: 5 p.m. ET 1/9/20.

Docket Numbers: ER20-644-000.

Applicants: Southwest Power Pool, Inc.

Description: Compliance filing: Fast-Start Compliance Filing in Response to Order Issued in EL18-35-000 to be effective 12/31/9998.

Filed Date: 12/19/19.

Accession Number: 20191219-5194.

Comments Due: 5 p.m. ET 1/9/20.

Docket Numbers: ER20-645-000.

Applicants: ISO New England Inc., New England Power Pool Participants Committee.

Description: § 205(d) Rate Filing: ISO-NE & NEPOOL; Sunset of Fuel Sec. Reliability Retention Mechanism for FCA 15 to be effective 2/17/2020.

Filed Date: 12/19/19.

Accession Number: 20191219-5195.

Comments Due: 5 p.m. ET 1/9/20.

Docket Numbers: ER20-646-000.

Applicants: PJM Interconnection, L.L.C.

Description: § 205(d) Rate Filing: Revisions to the Tariff, OA and RAA re Standard Formatting to be effective 2/18/2020.

Filed Date: 12/19/19.

Accession Number: 20191219-5204.

Comments Due: 5 p.m. ET 1/9/20.

Take notice that the Commission received the following electric securities filings:

Docket Numbers: ES20-12-000.

Applicants: MidAmerican Energy Company.

Description: Application Under Section 204 of the Federal Power Act for Authorization to Issue Securities of MidAmerican Energy Company.

Filed Date: 12/19/19.

Accession Number: 20191219-5138.

Comments Due: 5 p.m. ET 1/9/20.

Take notice that the Commission received the following public utility holding company filings:

Docket Numbers: PH20-5-000.

Applicants: Hearthstone Utilities, Inc.

Description: Hearthstone Utilities, Inc. submits FERC 65-A Notice of Change in Fact of Exemption Notification.

Filed Date: 12/18/19.

Accession Number: 20191218-5192.

Comments Due: 5 p.m. ET 1/8/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 19, 2019.
Nathaniel J. Davis, Sr.,
Deputy Secretary.

[FR Doc. 2019-27918 Filed 12-26-19; 8:45 am]

BILLING CODE 6717-01-P